DEPARTMENT OF THE INTERIOR

Establishment of the Commission on Indian Trust Administration and Reform

AGENCY: Office of the Secretary, Interior.

ACTION: Notice and request for nominations.

SUMMARY: The Department of the Interior is announcing the establishment of the Commission on Indian Trust Administration and Reform (Commission). The purpose of the Commission is to provide advice and recommendations to the Secretary of the Interior (Secretary) regarding trust management. This includes a thorough evaluation of the existing management and administration of the trust administration system to support a reasoned and factually based set of options for potential management improvements. This further includes a review of the manner in which the Department audits the management of the trust administration system, including the possible need for audits of management of trust assets.

The Department of the Interior is seeking nominations for individuals to be considered as Commission members. Nominations should describe and document the proposed member's qualifications for membership to the Commission, and include a resume listing their name, title, address, telephone, e-mail, and fax number.

DATES: Written nominations must be received by August 8, 2011.

ADDRESSES: Send nominations to: Meghan Conklin, Associate Deputy Secretary, Office of the Secretary, 1849 C Street, NW., Mailstop 7328, Washington, DC 20240; (202) 273-0394.

FOR FURTHER INFORMATION CONTACT: Meghan Conklin, Associate Deputy Secretary, Office of the Secretary, 1849 C Street, NW., Mailstop 7328, Washington, DC 20240; (202) 273-0394.

SUPPLEMENTARY INFORMATION: In accordance with the provisions of the Federal Advisory Committee Act (FACA), as amended, 5 U.S.C. Appendix. 2, and with the concurrence of the General Services Administration, the Department of the Interior is announcing the establishment of the Commission on Indian Trust Administration and Reform. The Commission is in the public interest in connection with the responsibilities of the Department of the Interior under Section 2 of the Reorganization Plan No. 3 of 1950 (64 Stat. 1262), as amended, the American Indian Trust Fund Management Reform Act of 1994, 25 U.S.C. 4001-4061, and the Claims Resettlement Act of 2010, Public Law 111-291.

The Commission will conduct its operations in accordance with the provisions of the FACA. It will report to the Secretary of the Interior through the Designated Federal Officer (DFO). The Office of the Secretary will provide administrative and logistical support to the Commission.

The duties of the Commission shall include: (1) Conducting a comprehensive evaluation of the Department's management and administration of the trust administration system, including a review of the report of a management consultant hired in accordance with Secretarial Order 3292; (2) reviewing the Department's provision of services to trust beneficiaries; (3) reviewing input from the public, interested parties, and trust beneficiaries, which should involve conducting a number of regional listening sessions; (4) considering the nature and scope of necessary audits of the Department's trust administration system; (5) recommending options to the Secretary to improve the Department's management and administration of the trust administration system based on information obtained from these activities, including whether any legislative or regulatory changes are necessary to permanently implement such improvements; and (6) recommending options to the Secretary on the need for and scope of audits on the effectiveness of all management reforms implemented as a result of Secretarial Order 3292 and the Department shall consider these recommendations in performing an audit of the effectiveness of such reforms; and (7) considering the provisions of the American Indian Trust Fund Management Reform Act of 1994 providing for the termination of the Office of the Special Trustee for American Indians, and making recommendations to the Secretary regarding any such termination.

Following the solicitation of nominations and in consultation with trust beneficiaries, the Secretary shall appoint the Commission Chair and four members who, collectively, shall have experience and/or expertise in trust management, financial management, asset management, natural resource management, Federal agency operations and budgets, as well as experience as account holders and in Indian Country.

Members will be appointed as special Government employees and are required to file on an annual basis a Confidential Financial Disclosure Report.

No individual who is currently registered as a Federal lobbyist is eligible to serve as a member of the Committee.

The Committee will meet approximately 2-4 times annually, and at such times as designated by the DFO.

Members of the Commission will serve without compensation. However, while away from their homes or regular places of business, Commission and subcommittee members engaged in Commission, or subcommittee business, approved by the DFO, may be allowed travel expenses, including per diem in lieu of subsistence, in the same manner as persons employed intermittently in Government service under Section 5703 of Title 5 of the United States Code.

Certification Statement: I hereby certify that the establishment of the Commission on Indian Trust Administration and Reform is necessary, is in the public interest and is established under the authority of the Secretary of the Interior, Department of the Interior under Section 2 of the Reorganization Plan No. 3 of 1950 (64 Stat. 1262), as amended, the American Indian Trust Fund Management Reform Act of 1994, 25 U.S.C. 4001-4061, and the Claims Resolution Act of 2010, Public Law 111-291.

Dated: July 1, 2011.
Ken Salazar,
Secretary of the Interior.

[FR Doc. 2011-17139 Filed 7-7-11; 8:45 am]

BILLING CODE 4310-10-P